DEPARTMENT OF LABOR

Office of the Secretary

Submission for OMB Review: Comment Request

October 11, 2007.

The Department of Labor (DOL) hereby announces the submission the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: John Kraemer, OMB Desk Officer for the Occupational Safety and Health Administration (OSHA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of a previously approved collection.

Title: Fire Protection in Shipyard Employment (29 CFR Part 1915, Subpart P).

OMB Number: 1218-0248.

Affected Public: Private Sector: Not-for-profit institutions (Shipyards).

Estimated Number of Respondents: 317.

Estimated Total Burden Hours: 4,635.

Estimated Total Annual Costs Burden: $0.

Description: 29 CFR part 1915, Subpart P (“the Standard”) requires employers to develop a written fire safety plan and written statements or policies that contain information about fire watches and fire response duties and responsibilities. The Standard also requires the employer to obtain medical exams for certain workers and to develop training programs and to train employees exposed to fire hazards. The Standard also requires employers to create and maintain records to certify that employees have been made aware of the details of the fire safety plan and that employees have been trained as required by the Standard. OSHA uses the records developed in response to this Standard to determine compliance with the safety and health provisions of the Standard and they are critical in OSHA's effort to control and reduce injuries and fatalities related to fires in shipyard employment.

Darrin A. King,
Acting Departmental Clearance Officer.

[FR Doc. E7-20405 Filed 10-16-07; 8:45 am]

BILLING CODE 4510-26-P